DEPARTMENT OF HOUSING AND URBAN DEVELOPMENT

[Docket No. FR-5752-N-70]

30-Day Notice of Proposed Information Collection: Choice Neighborhoods Evaluation, Phase II

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: October 3, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on June 11, 2014 (79 FR 33590).

A. Overview of Information Collection

Title of Information Collection: Choice Neighborhoods Evaluation, Phase II.

OMB Approval Number: 2528-New.

Type of Request: New collection.

Form Number: None.

Description of the need for the information and proposed use: HUD is conducting an evaluation of the Choice Neighborhoods Initiative, focused on the initial round of grants funded in August 2011. This evaluation requires the collection of information from households living in the Choice Neighborhoods sites. Phase I, approved by the Office of Management and Budget under control number 2528-0286, involved a baseline survey of households (http://www.reginfo.gov/public/do/PRAViewICR?ref_nbr=201203-2528-001).

Phase II, proposed here, involves tracking baseline survey respondents. The purpose of Phase II tracking is to maintain contact and location information for households that participated in the Choice Neighborhoods Demonstration Studies' Baseline Survey to analyze household mobility patterns and achieve a strong response rate on any follow up surveys that the U.S. Department of Housing and Urban Development (HUD) may conduct.

The tracking effort relies primarily on passive tracking strategies that use data obtained from HUD's PIC and TRACS systems, Choice Grantees, National Change of Address (NCOA) Database, and Accurint, to update the contact information for households. Active tracking strategies are used to complement passive strategies.

Respondents (i.e. affected public): This information collection will affect approximately 1,697 households that participated in the Choice Neighborhoods Demonstration Studies' Baseline Survey in 2013-14 in five cities—New Orleans, Chicago, Boston, Seattle, and San Francisco. Affected households include residents of HUD-assisted properties targeted by the Choice Neighborhoods Initiative as well as residents in the neighborhoods surrounding those properties. The respondents have all agreed to participate in the study.

There are five active tracking strategies that will directly affect Panel members:

1. Three quarters each year, panel members will receive a card/flyer with a toll-free number and Web site address set up for this study that will give respondents the opportunity to update their contact information online or by phone. We estimate that 25 percent of respondents (424) will respond to this flyer and it will take at most 5 minutes. This activity is estimated to result in 424 responses, 101.76 hours, and $1,387 of burden per year.

2. Once a year, the flyer/card will also contain a perforated mailer and a postage-paid business reply envelope, providing more opportunity for each panel member to update their contact information. We estimate that 90 percent of target development Panel members (675) and 50 percent of neighborhood Panel members (474) will respond to this flyer and it will take at most 5 minutes. This activity is estimated to result in 1,149 responses, 91.92 hours, and $1,253 of burden per year.

3. DIR will initiate follow-up phone calls to determine if the most current telephone number(s) in the contact database are correct. This action will only become necessary if there is no response to the annual mailers and there is no online update and the postcard/flyer is returned. DIR estimates that about half of the neighborhood sample (474) and 10 percent of the target development sample (74) will require a follow-up phone call. We estimate this call will take 5 minutes. We estimate that this activity will be successful for 50% of households (237 neighborhood and 37 target). This activity is estimated to result in 274 responses, 21.92 hours, and $299 of burden per year.

4. After a pre-determined number of unsuccessful telephone attempts (e.g., 3-5), a DIR field locator will visit the household to determine if the head of household still lives there. We estimate about 50 percent of the previous cases are expected to be resolved by telephone contact, with the remaining 50 percent (237 neighborhood and 37 target) being assigned to a field locator. We estimate this field location contact will take 5 minutes. This activity is estimated to result in 274 responses, 21.92 hours, and $299 of burden per year.

Information collection | Number of respondents | Frequency of response | Responses per annum | Burden hour per response | Annual burden hours | Hourly cost per response | Annual cost
Postcard | 424 | Quarterly | 3 | 0.08 | 101.76 | $13.63 | $1,387
Mailing with return envelope | 1,149 | Annual | 1 | 0.08 | 91.92 | 13.63 | 1,253
Phone calls | 274 | Annual | 1 | 0.08 | 21.92 | 13.63 | 299
In-person visit | 274 | Annual | 1 | 0.08 | 21.92 | 13.63 | 299
Total | 2,121 |  |  |  | 237.52 |  | 3,238

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: August 27, 2014.
Colette Pollard,
Department Reports Management Officer, Office of the Chief Information Officer.

[FR Doc. 2014-20959 Filed 9-2-14; 8:45 am]

BILLING CODE 4210-67-P